DEPARTMENT OF EDUCATION

Applications for New Awards; Model Demonstration Projects on Promoting Reentry Success Through Continuity of Educational Opportunities

AGENCY: Office of Vocational and Adult Education, Department of Education.

ACTION: Notice.

Overview Information

Model Demonstration Projects on Promoting Reentry Success through Continuity of Educational Opportunities (PRSCEO) Notice inviting applications for new awards for fiscal year (FY) 2013.

Catalog of Federal Domestic Assistance (CFDA) Number: 84.191C.

DATES: Applications Available: November 20, 2012.

Date of Pre-Application Meeting: December 10, 2012.

Deadline for Transmittal of Applications: December 26, 2012.

Full Text of Announcement

I. Funding Opportunity Description

Purpose of Program: The purpose of the PRSCEO program is to demonstrate the benefits of implementing a reentry education model, as described in the U.S. Department of Education (Department) November 2012 publication entitled “A Reentry Education Model, Supporting Education and Career Advancement for Low-Skill Individuals in Corrections” (Reentry Education Model).¹ This Reentry Education Model is focused on: (1) Supporting individuals, especially low-skilled adults, in their transition from correctional institutions ² into the community by strengthening and aligning educational services ³ provided in those settings; (2) establishing a strong program infrastructure to support and improve education services in correctional institutions; (3) ensuring that education is well integrated into correctional institutions by making it a critical component of the intake and pre-release processes, and by aligning it with support and employment services; and (4) encouraging individuals in correctional institutions to identify and achieve education and career goals, recognizing that their education paths are not linear or uniform.

¹ See http://www2.ed.gov/about/offices/list/ovae/pi/AdultEd/reentry-model.pdf.

² Throughout this notice the term “correctional institution” has the meaning as set forth in 20 U.S.C. 9225(d)(2) to include “a prison; jail; reformatory; work farm; detention center; or halfway house, community-based rehabilitation center, or any other similar institution designed for the confinement or rehabilitation of criminal offenders.”

³ Educational services may include, but are not limited to, assessment; instruction in reading, writing, and speaking the English language, numeracy, problem solving, and other literacy skills; career and technical education instruction; postsecondary education instruction; development of a student individual educational plan; and counseling services.

Background

More than 700,000 incarcerated individuals leave Federal and State prisons each year.⁴ Too many of these individuals do not reintegrate successfully into society; within 3 years of release, 4 out of 10 prisoners will have committed new crimes or violated the terms of their release and will be reincarcerated.⁵

⁴ Guerino, Paul, Paige M. Harrison, and William J. Sabol. 2011. Prisoners in 2010. NCJ 236096. Washington, DC: U.S. Department of Justice, Bureau of Justice Statistics. Accessed September 5, 2012, from http://bjs.ojp.usdoj.gov/content/pub/pdf/p10.pdf.

⁵ The Pew Center on the States. 2011. State of Recidivism: The Revolving Door of America's Prisons. Washington, DC: The Pew Charitable Trusts. Accessed September 5, 2012, from www.pewcenteronthestates.org/uploadedFiles/Pew_State_of_Recidivism.pdf.

This negative cycle of release and return costs States more than $50 billion annually.⁶ Moreover, the number of individuals cycling in and out of our Nation's prisons jeopardizes public safety and negatively affects those individuals' families and their communities. Approximately 2.7 million children have an incarcerated parent, and these children are more likely to be expelled or suspended from school than children without an incarcerated parent.⁷

⁶ National Association of State Budget Officers. 2011. State Expenditure Report: Examining Fiscal 2009-2011 State Spending. Washington, DC: Author. Accessed September 5, 2012, from www.nasbo.org/sites/default/files/2010%20State%20Expenditure%20Report.pdf.

⁷ Phillips, Susan D., Alaattin Erkanli, Gordon P. Keeler, E. Jane Costello, & Adrian Angold. 2006. “Disentangling the Risks: Parent Criminal Justice Involvement and Children's Exposure to Family Risks.” Criminology and Public Policy 5(4): 677-702.

Among the male U.S. population aged 20 to 34 without a high school credential, 1 in 3 black men, 1 in 8 white men, and 1 in 14 Hispanic men are incarcerated.⁸ Formerly incarcerated men earn approximately 40 percent less per year than those who have never been incarcerated.⁹ Unfortunately, many offenders are ill-equipped to break this cycle of reincarceration because they lack the education and workforce skills needed to succeed in the labor market and the cognitive skills (e.g., the ability to solve problems) needed to address the challenges of reentry.¹⁰ In fact, approximately 41 percent of Federal and State prisoners lack a high school credential, compared to 18 percent of the general population. Even fewer have completed any college coursework.¹¹

⁸ The Pew Charitable Trusts. 2010. Collateral Costs: Incarceration's Effect on Economic Mobility. Washington, DC: Author. Accessed September 5, 2012, from www.pewstates.org/uploadedFiles/PCS_Assets/2010/Collateral_Costs%281%29.pdf.

⁹ Gould, Eric D., Bruce A. Weinberg, and David B. Mustard. 2002. “Crime Rates and Local Labor Market Opportunities in the United States: 1979-1997.” Review of Economics and Statistics 84 (1): 45-61. Accessed September 5, 2012, from www.terry.uga.edu/~mustard/labor.pdf.

¹⁰ MacKenzie, Doris Layton. 2012. “The Effectiveness of Corrections-Based Work and Academic and Vocational Education Programs.” In The Oxford Handbook of Sentencing and Corrections, edited by Joan Petersilia and Kevin R. Reitz, 492-520. New York: Oxford University Press.

¹¹ Harlow, Caroline Wolf. 2003. Education and Correctional Populations. NCJ 195670. Washington, DC: U.S. Department of Justice, Bureau of Justice Statistics. Accessed September 5, 2012, from www.bjs.gov/content/pub/pdf/ecp.pdf.

Although most State and Federal prisons offer adult education and career and technical education programs, and some offer postsecondary education, participation in these programs has not kept pace with the growing prison population.¹² Similarly, those under community supervision (parole or probation) often do not participate in education and training programs.¹³ Possible reasons for these low participation rates include lack of or limited access to programs, limited awareness of program opportunities, reductions in services because of State budget constraints, insufficient personal motivation, and competing demands (e.g., employment) that may take precedence over pursuing education.¹⁴ It is not surprising, therefore, that formerly incarcerated individuals cited education, job training, and employment as vital needs not generally met during incarceration or after release.¹⁵

¹² Western, Bruce, Vincent Schiraldi, and Jason Ziedenberg. 2003. Education & Incarceration. Washington, DC: Justice Policy Institute. Accessed September 5, 2012, from www.justicepolicy.org/images/upload/03-08_REP_EducationIncarceration_AC-BB.pdf.

¹³ Phillips, Susan D., Alaattin Erkanli, Gordon P. Keeler, E. Jane Costello, & Adrian Angold. 2006. “Disentangling the Risks: Parent Criminal Justice Involvement and Children's Exposure to Family Risks.” Criminology and Public Policy 5(4): 677-702.

¹⁴ Crayton, Anna, and Suzanne Rebecca Neusteter. 2008. The Current State of Correctional Education. Paper prepared for the Reentry Roundtable on Education. New York: John Jay College of Criminal Justice, Prisoner Reentry Institute. Accessed September 5, 2012, from www.jjay.cuny.edu/CraytonNeusteter_FinalPaper.pdf.

¹⁵ Visher, Christy A., and Pamela K. Lattimore. 2007. “Major Study Examines Prisoners and Their Reentry Needs.” NIJ Journal 258: 30-33. Accessed September 5, 2012, from www.ncjrs.gov/pdffiles1/nij/219603g.pdf.

Low-skilled individuals who move in and out of prison may not be able to access well-integrated and sequenced educational programs. Coordination and communication among educational programs and their partner related service providers, both inside and outside of correctional institutions, are essential to facilitating educational participation and progress. A lack of coordination and communication can result in such barriers as differing standardized assessments and curriculum and lack of articulation agreements, making student transfers from one program to another difficult. Other barriers to access to well-integrated and sequenced educational programs include:

• Misinterpretation of Federal and State privacy laws and insufficient links among data systems, making it difficult for programs to get a comprehensive picture of their students' backgrounds, avoid duplication of effort, and track outcomes.

• A perception among correctional officials (e.g., wardens, parole and probation officers, and court officials) and policymakers that individuals in the correctional institutions should not receive educational services; this, in turn, can make it difficult to require student participation and establish supportive education and reentry policies.

• Inadequate staff training, resulting in ineffective educational services.

• Limited funds, leading to long waiting lists for programs.

A growing body of evidence ¹⁶ shows that providing offenders with education and training programs increases their employment opportunities, decreases their cognitive deficits, and helps reduce the likelihood of recidivism.¹⁷ More work is needed, however, to ensure that low-skilled individuals in correctional institutions have access to these services and can advance their education and employment prospects despite their correctional status.

¹⁶ Aos, Steve, Marna Miller, and Elizabeth Drake. 2006. Evidence-Based Adult Corrections Programs: What Works and What Does Not. Olympia, WA: Washington State Institute for Public Policy. Accessed September 5, 2012, from www.wsipp.wa.gov/rptfiles/06-01-1201.pdf.

¹⁷ MacKenzie, Doris Layton. 2006. What Works in Corrections: Reducing the Criminal Activities of Offenders and Delinquents. New York: Cambridge University Press.

For this purpose the Department supported the development of the Reentry Education Model, which illustrates an education continuum for bridging the gap between prison- and community-based education and training programs.¹⁸ The goal of this Reentry Education Model is to ensure that individuals can gain the knowledge and skills they need to obtain long-term, living-wage employment and can transition successfully out of correctional institutions to other adult basic education or adult secondary education programs, postsecondary education, training programs, occupational training settings, or employment. It is based on a review of research studies and feedback from a panel of experts, including practitioners, administrators, and researchers in the fields of corrections and education. The Reentry Education Model, in addition to illustrating how educational service components should connect ¹⁹ and be sequenced, includes detailed listings and discussions of the critical components of an educational continuum through the period of incarceration and reintegration.

¹⁸ MPR Associates, Inc. 2011. Community-based Correctional Education. Washington, DC: U.S. Department of Education, Office of Vocational & Adult Education. Accessed September 5, 2012, from http://www2.ed.gov/about/offices/list/ovae/pi/AdultEd/cbce-report-2011.pdf.

¹⁹ See the Reentry Education Model publication, figure 1, page 5.

Through this competition, which is carried out under part JJ of title I of the Omnibus Crime Control and Safe Streets Act of 1968, 42 U.S.C. 3797dd(a)(3), the Secretary of Education will support the establishment and operation of projects that will test and demonstrate the benefits of using the Reentry Education Model, including implementation of the Reentry Education Model infrastructure elements.²⁰ Grantees cannot effectively implement the Reentry Education Model without adequate infrastructure.²¹ Grantees may appropriately build their program infrastructure as part of the funded project. Because of the challenges associated with implementing many infrastructure elements in a short period of time, the Secretary will award competitive preference, as described in the Priorities section in this notice, to applicants that have portions of the Reentry Education Model infrastructure elements already in place for “strategic partnerships” and the “use of electronic data system.” This will increase the likelihood that a grantee will promptly complete all infrastructure requirements and successfully demonstrate the effectiveness of the Reentry Education Model within the timeframe of the grant period.

²⁰ See Reentry Education Model publication, pages 10 through 13 for more information about the infrastructure elements.

²¹ A panel of researchers and practitioners identified infrastructure elements on which to base the Reentry Education Model. These elements are derived from evidence that promising or proven strategies, when adopted by correctional institutions, would result in improved student outcomes for attaining educational achievement levels, completing their education programs, and attaining their educational goals. The combination of these infrastructure elements in a single model is the result of cross-disciplinary and creative work that is promising but needs to be tested and, depending on the results of that testing, modified.

Adult Education and Family Literacy Act (AEFLA)-funded eligible agencies,²² providers,²³ or providers of adult education and literacy services using funds provided by an AEFLA-funded eligible agency or provider, are eligible for awards through this competition. AEFLA provides grants to States to provide adult education and literacy activities, including programs for individuals in correctional institutions (20 U.S.C. 9222(a)(1) and 20 U.S.C. 9225(b)). The Department intends to use National Leadership Activities funds under 20 U.S.C. 9253 to provide technical assistance support for PRSCEO program grantees and for an independent evaluation of the PRSCEO program.

²² As defined in 20 U.S.C. 9202(4), the term “eligible agency” means “the sole entity or agency in a State or an outlying area responsible for administering or supervising policy for adult education and literacy in the State or outlying area, respectively, consistent with the law of the State or outlying area, respectively.”

²³ As defined in 20 U.S.C. 9202(5), the term “eligible provider” means “(A) a local educational agency; (B) a community-based organization of demonstrated effectiveness; (C) a volunteer literacy organization of demonstrated effectiveness; (D) an institution of higher education; (E) a public or private nonprofit agency; (F) a library; (G) a public housing authority; (H) a nonprofit institution that is not described in any of subparagraphs (A) through (G) and has the ability to provide literacy services to adults and families; and (I) a consortium of the agencies, organizations, institutions, libraries, or authorities described in any of subparagraphs (A) through (H).”

Priorities: This notice includes two absolute priorities and two competitive preference priorities. We are establishing these priorities for the FY 2013 grant competition, and any subsequent year in which we make awards from the list of unfunded applicants from this competition, in accordance with section 437(d)(1) of the General Education Provisions Act (GEPA), 20 U.S.C. 1232(d)(1).

Absolute Priorities: Under 34 CFR 75.105(c)(3) we consider only applications that meet both of the absolute priorities.

Absolute Priority 1 is:

Model Demonstration Projects on Promoting Reentry Success Through Continuity of Educational Opportunities Based on the Reentry Education Model

To meet this priority, an applicant must—

(a) Propose a project that:

(1) Implements the Reentry Education Model, including all infrastructure elements, to promote education engagement and continuity for individuals during their reentry process spanning correctional institution settings and community settings; and

(2) Serves correctional institution residents (prisoners) and community correctional clients (e.g., parolees, probationers, or inmates in halfway house settings); and

(b) Implement a project plan (which must be included in the application) that:

(1) Identifies the partner entities described in paragraph (a)(3)(ii) of the Application Requirements section of this notice;

(2) Describes the process the applicant will use for developing an individual educational plan that addresses an individual student's needs; and

(3) Identifies formal tools of transition that the applicant will implement or has already implemented, including explicit interagency agreements that can facilitate the transition among educational programs and across correctional institution and community settings.

Absolute Priority 2 is:

Implementation of a Demonstration Program Based on the Reentry Education Model Using Adult Education and Family Literacy Act-Funded Programs

To meet this priority, an applicant must either be an AEFLA-funded eligible agency,²⁴ an AEFLA-funded eligible provider,²⁵ or a provider of adult education and literacy services with funds provided by an AEFLA-funded eligible agency or provider in the jurisdiction in which the services will be provided. Each applicant must submit a letter from the State agency administering AEFLA verifying that the applicant is an eligible agency or provider, or a provider of adult education and literacy services, as described in this priority, and has been an eligible agency or provider for at least one year prior to the submission of the application.

²⁴ See footnote 22 in the Background section for the definition of “eligible agency”.

²⁵ See footnote 23 in the Background section for the definition of “eligible provider”.

Competitive Preference Priorities

The Secretary is also establishing two competitive preference priorities for this competition. Under 34 CFR 75.105(c)(2)(i) the Department will award up to an additional five points for Competitive Preference Priority 1 and up to an additional five points for Competitive Preference Priority 2. The maximum amount of points that an applicant can receive under these competitive preference priorities is 10 points, depending on how well the application meets these priorities.

Competitive Preference Priority 1 is:

Demonstrated Existence of Program Infrastructure Elements Contained in the Reentry Education Model: Strategic Partnerships

To meet this priority, an applicant must provide evidence of prior implementation of the infrastructure element ²⁶ “strategic partnerships” (at least one year prior to the date of application), which must include currently functioning agreements among partner entities as specified in the Reentry Education Model.

²⁶ See Reentry Education Model, pages 10 through 13 for more information about the infrastructure elements.

Competitive Preference Priority 2 is:

Demonstrated Existence of Program Infrastructure Elements Contained in the Reentry Education Model: Electronic Data System

To meet this priority, an applicant must provide evidence of the prior implementation (at least one year prior to date of application) of the infrastructure element,²⁷ “electronic data system,” which must include the capacity to capture student data, including educational level, educational goals, educational participation, and educational attainments. Such evidence may include samples of student record forms, redacted as appropriate to protect personally identifiable information or other data necessary to protect student privacy, procedural guidance, or other documentation demonstrating the availability of student data for individuals transitioning among program settings during the release process. In addition, the applicant must provide an assurance that the data are used to inform program improvement initiatives within the educational partner entities serving such students.

²⁷ See Reentry Education Model publication, pages 10 through 13 for more information about the infrastructure elements.

Requirements

Application Requirements

The project plan submitted within the application must include:

(a) A description of how the applicant will implement or already has implemented the Reentry Education Model. Specifically the application must include a description of the following:

(1) The elements of the proposed project, including:

(i) A correctional institution student intake protocol that includes assessment, individual educational plan development, and the recording of information in a centralized, electronic data system;

(ii) Educational services with appropriate alignment and content, including basic educational services for low-skilled adults, within correctional facilities and within community-based educational programs for reentering formerly incarcerated or otherwise sanctioned individuals;

(iii) Strategies describing proven successful or promising practices for:

(A) Improving student outcomes in the attainment of educational achievement levels,

(B) Increasing the number of students completing their educational programs, and

(C) Increasing the number of students attaining their educational goals; ²⁸

²⁸ See the Performance Measures section of this notice.

(iv) Pre-release procedures and protocols to support the transition of students, including low-skilled students, from correctional institution educational programs to community-based educational programs; and

(v) Intake processes and procedures for the community-based educational services that include—

(A) Connecting incarcerated individuals with community-based services by starting the services in the correctional institution,

(B) Timely transfer of student data and educational plans, which are updated as necessary and appropriate, and

(C) A process of communication among all partner entities and with the individual students, including a point person for tracking individual progress to the extent practicable and for tracking students transferring to other adult basic education or adult secondary education programs, postsecondary education, training programs, or occupational training programs.

(2) Reentry Education Model infrastructure elements that the applicant will implement or already has implemented, which must include:

(i) Monetary and other resources,

(ii) Strategic partnerships,

(iii) Electronic data system,

(iv) Staff training,

(v) Reentry policies, and

(vi) Evaluation processes.²⁹

²⁹ See Reentry Education Model publication, pages 10 through 13 for more information about the infrastructure elements.

(3) Implementation components, including—

(i) The methodology that the applicant will use for selecting partner entities; ³⁰

³⁰ A partner entity may be, but need not be, the applicant or a member of a consortium application.

(ii) Identification of the partner entities, which

(A) Must include—

(I) One or more community-based educational service providers, at least one of which must offer adult basic education services or English literacy programs, and

(II) One or more correctional institution education program sites, at least one of which must offer adult basic education services or English literacy programs; and

(B) May include—

(I) One or more community colleges, or technical colleges,

(II) One or more occupational training providers,

(III) One or more community correction facilities or organizations, and

(IV) One or more intermediary prisoner reentry service providers, such as providers of mentoring programs.

(iii) For each partner entity selected in paragraphs (a)(3)(ii)(A) and (a)(3)(ii)(B), descriptions of—

(A) The populations served by the partner entity; and

(B) The expected contributions of the partner entity to the proposed project and the extent to which each partner entity has committed to the implementation and sustainability of the project.

(iv) Strategies for identifying and allocating human resources among the partner entities as needed to implement the proposed project;

(v) The applicant's approach to initial and ongoing personnel development or training for personnel involved in implementing the proposed project; and

(4) Sustainability components, including a plan for:

(i) Assessing the responsibilities for project maintenance and support among the partner entities at the participating project sites by the end of the project period in order to continue services after the project period ends; and

(ii) Continuing personnel training among the partner entities in order to build capacity to implement the Reentry Education Model during the grant project period and to ensure that the project is sustained after the grant project period ends.

(b) A detailed timeline for implementing the proposed project.

(c) A plan for collecting data that will be submitted as required by the Department to the Department's technical assistance provider and the Department's independent evaluator,³¹ in order to monitor the continuous progress of the applicant's program outcomes based on the Reentry Education Model. Such data, at a minimum, must include:

³¹ For the purposes of reporting the data related to the grant program, the Department will identify the categories of student records to be submitted to the Department's independent evaluator for the PRSCEO program grantees. The Department's independent evaluator will, among other things, review numerical data indicating success or failure rates in terms of adult student participant outcomes including persistence, continued involvement in programs across settings, learning gains, credentials earned, and benefits of program participation.

(1) The numbers of individuals who maintain educational participation while transitioning from and among correctional institutions, including to community correctional settings and other community-based educational programs; and

(2) The numbers of adults who acquire basic skills (including English language acquisition), complete secondary education, and transition to further education, training, or to work as indicated by attainment of educational functioning levels, attainment of high school credentials, enrollment in postsecondary education or training programs, and attainment of employment.

(d) A description of the project's logic model, consistent with the Reentry Education Model,³² and a plan to collect data on the following system outputs:

³² See the Reentry Education Model publication, figure 1, page 5.

(1) Changes to policies, procedures, or data collection systems, and

(2) Changes related to student information or record sharing, referrals for services, educational services, assessments, and transition planning.

(e) A proposed budget that includes estimates of the costs of:

(1) Implementing the proposed project, including but not limited to—

(i) Personnel, and

(ii) The various components of the proposed project; and

(2) Attendance of up to two attendees at a required one-and-one-half-day meeting in Washington, DC.

(f) A description of the applicant's formative evaluation plan, consistent with the proposed project's logic model, and consistent with the Reentry Education Model and student data collection plan, that:

(1) Includes information on how these data described in paragraph (c) will be reviewed by the project staff prior to finalizing data collection plans and again prior to submitting those data to the Department (consistent with the timeline in this section), and how they will be used during the course of the project to adjust the project or its implementation in order to enhance the project's outcomes, generalizability, and potential for sustainability; and

(2) Includes, as appropriate, periodic collection of student and system data in addition to other data relating to fidelity of implementation, stakeholder acceptability, and the types of facilities in which the services are provided (e.g., correctional institution, community center, library).

General Requirements

To meet the general requirements of this proposed competition, each applicant must propose to conduct the following activities:

(a) Commit to work with the Department's independent evaluator ³³ to—

³³ For the purposes of the assessment related to the grant program, the Department's independent evaluator will develop assessments and collect and analyze the data to ensure standardization of measurement across grant programs.

(1) Measure the fidelity of implementation of the Reentry Education Model; and

(2) Collect and assess the stakeholders' (e.g., service providers, teachers, case workers, program administrators, clients) feedback on the efficacy of the Reentry Education Model components, processes, and outcomes.

(b) Participate in program activities and collaborative efforts among grantees, Department staff, and the Department-identified technical assistance provider to disseminate Reentry Education Model information to such entities as adult education providers, correctional institutions, community-based organizations, community colleges, professional organizations, and other entities identified by the Department.

(c) Communicate and collaborate on an ongoing basis with Department-funded or other Department-designated projects in order to share information on successful strategies and challenges of the Reentry Education Model implementation across correctional and community settings.

(d) Maintain ongoing telephone and email communication with the Department project officer and the administrators of other projects funded under this competition.

(e) Submit data, when and as specified by the Department, to the independent evaluator designated by the Department in order to evaluate the Reentry Education Model.

Waiver of Proposed Rulemaking: Under the Administrative Procedure Act (5 U.S.C. 553), the Department generally offers interested parties the opportunity to comment on proposed requirements and priorities. Section 437(d)(1) of GEPA, however, allows the Secretary to exempt from rulemaking requirements regulations governing the first grant competition under a new or substantially revised program authority. This is the first grant competition for this program under part JJ of title I of the Omnibus Crime Control and Safe Streets Act of 1968, 42 U.S.C. 3797dd(a)(3) and therefore qualifies for this exemption. In order to ensure timely grant awards, the Secretary has decided to forgo public comment on the priorities and other requirements under section 437(d)(1) of GEPA. These priorities and other requirements will apply to the FY 2013 grant competition and any subsequent year in which we make awards from the list of unfunded applicants from this competition.

Program Authority: 42 U.S.C. 3797dd(a)(3).

Applicable Regulations: (a) The Education Department General Administrative Regulations (EDGAR) in 34 CFR parts 74, 75, 77, 79, 80, 81, 82, 84, 86, 97, 98, and 99. (b) The Education Department debarment and suspension regulations in 2 CFR part 3485.

Note: The regulations in 34 CFR parts 79 apply to all applicants except federally recognized Indian tribes.

Note: The regulations in 34 CFR part 86 apply to institutions of higher education only.

II. Award Information

Type of Award: Discretionary grants.

Estimated Available Funds: $924,036.

Estimated Range of Awards: $200,000 to $400,000.

Estimated Average Size of Award: $308,012.

Estimated Number of Awards: 2 to 4.

Note: The Department is not bound by any estimates in this notice.

Project Period: Up to 30 months. Applicants under this competition are required to provide detailed budget information for each year of the project and for the total grant.

III. Eligibility Information

1. Eligible Applicants: AEFLA-funded eligible agencies as defined by 20 U.S.C. 9202(4) and providers as defined by 20 U.S.C. 9202(5) and providers of adult education and literacy services with funds provided by an AEFLA-funded eligible agency or provider. Pursuant to 20 U.S.C. 9202(4) and 20 U.S.C. 9202(5), eligible) eligible AEFLA agencies and providers include the sole entity or agency in a State or an outlying area responsible for administering or supervising policy for adult education and literacy in the State or outlying area, local educational agencies, community-based organizations of demonstrated effectiveness, volunteer literacy organizations of demonstrated effectiveness, institutions of higher education, public or private non-profit agencies, libraries, public housing authorities, nonprofit institutions that are not described above and have the ability to provide literacy services to adults and families; and consortia. Note that eligible applicants seeking to apply as a consortium must comply with the regulations in 34 CFR 75.127-75.129, which address group applications.

2. Cost Sharing or Matching: This program does not require cost sharing or matching.

IV. Application and Submission Information

1. Address to Request Application Package: You can obtain an application package via the Internet or from the Education Publications Center (ED Pubs), or from the program office.

To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.191C.

To obtain a copy from the program office, contact the persons listed under FOR FURTHER INFORMATION CONTACT in section VII of this notice.

Individuals with disabilities can obtain a copy of the application package in an accessible format (e.g., braille, large print, audiotape, or compact disc) by contacting the person or team listed under Accessible Format in section VIII of this notice.

2. a. Content and Form of Application Submission: Requirements concerning the content of an application, together with the forms you must submit, are in the application package for this competition.

Page Limit: The application narrative (Part III of the application) is where you, the applicant, address the selection criteria that reviewers use to evaluate your application. You must limit the application narrative [Part III] to no more than 25 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, documentation for meeting priorities, or the letters of support. However, the page limit does apply to all of the application narrative section [Part III].

Our reviewers will not read any pages of your application that exceed the page limit.

b. Submission of Proprietary Information:

Given the types of projects that may be proposed in applications for the PRSCEO program, your application may include business information that the applicant considers proprietary. The Department's regulations define “business information” in 34 CFR 5.11.

Because we plan to make successful applications available to the public upon request, you may wish to request confidentiality of business information.

Consistent with Executive Order 12600, please designate in your application any information that you feel is exempt from disclosure under Exemption 4 of the Freedom of Information Act. In the appropriate Appendix section of your application, under “Other Attachments Form,” please list the page number or numbers on which we can find this information. For additional information please see 34 CFR 5.11(c).

3. Submission Dates and Times:

Applications Available: November 20, 2012.

Deadline for Transmittal of Applications: December 26, 2012.

Applications for grants under this competition must be submitted electronically using the Grants.gov Apply site. For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the persons listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active. The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this program must be submitted electronically unless you qualify for an exception to this requirement in accordance with the instructions in this section.

a. Electronic Submission of Applications.

Applications for grants under this competition must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for PRSCEO at www.Grants.gov. You must search for the downloadable application package for this program by the CFDA number. Do not include the CFDA number's alpha suffix in your search (e.g., search for 84.191, not 84.191C).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it. If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the persons listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: John Linton or Zina Watkins, U.S. Department of Education, 400 Maryland Avenue SW., Room 11021, Washington, DC 20202. FAX: (202) 245-7837.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address:

U.S. Department of Education, Application Control Center, Attention: (CFDA Number 84.191C), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service. If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address:

U.S. Department of Education, Application Control Center, Attention: (CFDA Number 84.191C), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department:

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria:

The selection criteria for this competition are from 34 CFR 75.210 and are listed in the following paragraphs. The maximum score for all the selection criteria is 90 points. The maximum score for each selection criterion is indicated in parentheses with the criterion. The selection criteria are as follows:

(1) Significance (up to 15 points).

(a) The Secretary considers the significance of the proposed project.

(b) In determining the significance of the proposed project, the Secretary considers—

(i) The extent to which the proposed project is likely to build local capacity to provide, improve, or expand services that address the needs of the target population; and

(ii) The extent to which the proposed project involves the development or demonstration of promising new strategies that build on, or are alternatives to, existing strategies.

(2) Quality of the project design (up to 20 points).

(a) The Secretary considers the quality of the design of the proposed project.

(b) In determining the quality of the design of the proposed project, the Secretary considers—

(i) The extent to which the goals, objectives, and outcomes to be achieved by the proposed project are clearly specified and measurable;

(ii) The extent to which the proposed development efforts include adequate quality controls and, as appropriate, repeated testing of products; and

(iii) The extent to which the proposed project will be coordinated with similar or related efforts, and with other appropriate community, State, and Federal resources.

(3) Quality of project personnel (up to 15 points).

(a) The Secretary considers the quality of the project personnel who will carry out the proposed project.

(b) In determining the quality of project personnel, the Secretary considers the extent to which the applicant encourages applications for employment from persons who are members of groups that have traditionally been underrepresented based on race, color, national origin, gender, age, or disability;

(c) In addition, the Secretary considers—

(i) The qualifications, including relevant training and experience, of the project director or principal investigator; and

(ii) The qualifications, including relevant training and experience, of key project personnel.

(4) Adequacy of resources (up to 15 points).

(a) The Secretary considers the adequacy of resources for the proposed project.

(b) In determining the adequacy of resources for the proposed project, the Secretary considers—

(i) The relevance and demonstrated commitment of each partner in the proposed project to the implementation and success of the project;

(ii) The extent to which the costs are reasonable in relation to the objectives, design, and potential significance of the proposed project; and

(iii) The potential for the incorporation of project purposes, activities, or benefits into the ongoing program of the agency or organization at the end of Federal funding.

(5) Quality of the management plan (up to 15 points).

(a) The Secretary considers the quality of the management plan for the proposed project.

(b) In determining the quality of the management plan for the proposed project, the Secretary considers—

(i) The adequacy of the management plan to achieve the objectives of the proposed project on time and within budget, including clearly defined responsibilities, timelines, and milestones for accomplishing project tasks;

(ii) The adequacy of procedures for ensuring feedback and continuous improvement in the operation of the proposed project; and

(iii) The extent to which the time commitments of the project director and principal investigator and other key project personnel are appropriate and adequate to meet the objectives of the proposed project.

(6) Quality of the project evaluation (up to 10 points).

(a) The Secretary considers the quality of the evaluation to be conducted of the proposed project.

(b) In determining the quality of the evaluation, the Secretary considers—

(i) The extent to which the methods of evaluation are thorough, feasible, and appropriate to the goals, objectives, and outcomes of the proposed project; and

(ii) The extent to which the methods of evaluation include the use of objective performance measures that are clearly related to the intended outcomes of the project and will produce quantitative and qualitative data to the extent possible.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act, the Department has established goals and measures for the Adult Education and Family Literacy Act program. Although the PRSCEO program is not authorized by AEFLA, the Department has decided that it would be appropriate to align the AEFLA performance measures for PRSCEO program. One of the established goals of the AEFLA program is to support adult education systems that result in increased adult achievement in order to prepare adults, including individuals in correctional settings, for family, work, citizenship, and future learning. The AEFLA program provides adults with opportunities to acquire basic foundation skills (including English language acquisition), complete secondary education, and transition to further education and training and to work. There are four established measures for the AEFLA program that are applicable for adults in the PRSCEO program. These measures are—

(1) The percentage of adults enrolled in English literacy programs served by the PRSCEO program who acquire the level of English language skills needed to complete the levels of instruction in which they enrolled.

(2) The percentage of adults enrolled in adult basic education programs served by the PRSCEO program who acquire the level of basic skills needed to complete the level of instruction in which they enrolled.

(3) The percentage of all enrolled adults in the applicable population served by the PRSCEO program who pass all General Equivalency Diploma (GED) tests, or obtain secondary school diplomas.³⁴

³⁴ The applicable population consists of all enrolled adults who take all GED tests, or are enrolled in adult high school at the high adult secondary education level, or are enrolled in the assessment phase of the External Development Program who exit during the program year.

(4) The percentage of adults in the applicable population served by the PRSCEO program who enter postsecondary education or a training program.³⁵

³⁵ The applicable population consists of all adults who passed the GED tests or earned a secondary credential while enrolled in adult education, or have a secondary credential at entry, or are enrolled in a class specifically designed for transitioning to postsecondary education who exit during the program year. Entry into postsecondary education or training can occur any time from the time of exit through the end of the following program year. A transition class is a class that has a specific purpose to prepare students for entry into postsecondary education, training or an apprenticeship program.

Under the Government Performance and Results Act, the Department has established goals and measures for the recidivism of individuals who have been in correctional institutions. The measure related to recidivism is—

(5) The percentage of adults served by the PRSCEO program who, within one year of release, have criminal justice system involvement (arrest, re-conviction, violation of parole conditions, or return to incarceration) compared with the percentage of similarly situated individuals not served by the PRSCEO program.

Grantees will be responsible for providing data to support evaluation of these objectives.

VII. Agency Contact [Contacts]

FOR FURTHER INFORMATION CONTACT: John Linton, U.S. Department of Education, 400 Maryland Avenue SW., Room 11021, PCP, Washington, DC 20202. Telephone: (202) 245-6592 or by email: John.Linton@ed.gov; or Zina Watkins, U.S. Department of Education, 400 Maryland Avenue SW., Room 11020, PCP, Washington, DC 20202. Telephone: (202) 245-6197 or by email: Zina.Watkins@ed.gov.

If you use a TDD or TTY, call the FRS, toll free, at 1-800-877-8339.

VIII. Other Information

Accessible Format: Individuals with disabilities can obtain this document in an accessible format (e.g., braille, large print, audiotape, or compact disc) on request to the contact persons listed under FOR FURTHER INFORMATION CONTACT in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: November 14, 2012.
Daniel J. Miller,
Executive Officer, Delegated Authority to Perform the Functions and Duties of the Assistant Secretary for Vocational and Adult Education.

[FR Doc. 2012-28068 Filed 11-19-12; 8:45 am]

BILLING CODE 4000-01-P